DEPARTMENT OF ENERGY

Federal Energy Regulatory Commission

[P-13214-001]

Lock 12 Hydro Partners; Notice of Intent To File License Application, Filing of Pre-Application Document, and Approving Use of the Traditional Licensing Process

December 10, 2010.

a. Type of Filing: Notice of Intent to File License Application and Request to Use the Traditional Licensing Process.

b. Project No.: 13214-001.

c. Dated Filed: October 12, 2010.

d. Submitted by: Lock 12 Hydro Partners.

e. Name of Project: Kentucky Lock and Dam 12 Project.

f. Location: On the Kentucky River, in Estill County, Kentucky.

g. Filed Pursuant to: 18 CFR 4.6 of the Commission's regulations.

h. Potential Applicant Contact: David Brown Kinloch, Soft Energy Associates, Agent for Lock 12 Hydro Partners, 414 South Wenzel Street, Louisville, KY 40204, (502) 589-0975.

i. FERC Contact: Sean Murphy at (202) 502-6145; or e-mail at sean.murphy@ferc.gov.

j. Lock 12 Hydro Partners filed its request to use the Traditional Licensing Process on October 12, 2010. Lock 12 Hydro Partners provided public notice of its request on November 15, 2010. In a letter dated December 10, 2010, the Director of the Office of Energy Projects approved Lock 12 Hydro Partners' request to use the Traditional Licensing Process.

k. With this notice, we are initiating informal consultation with: (a) The U.S. Fish and Wildlife Service and/or NOAA Fisheries under section 7 of the Endangered Species Act and the joint agency regulations there under at 50 CFR, Part 402; (b) NOAA Fisheries under section 305(b) of the Magnuson-Stevens Fishery Conservation and Management Act and implementing regulations at 50 CFR 600.920; and (c) the Kentucky State Historic Preservation Officer, as required by Section 106, National Historical Preservation Act, and the implementing regulations of the Advisory Council on Historic Preservation at 36 CFR 800.2.

l. Lock 12 Hydro Partners filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

n. Register online at http://www.ferc.gov/docs-filing/esubscription.asp to be notified via e-mail of new filing and issuances related to this or other pending projects. For assistance, contact FERC Online Support.

Kimberly D. Bose,
Secretary.

[FR Doc. 2010-31710 Filed 12-16-10; 8:45 am]

BILLING CODE 6717-01-P